DEPARTMENT OF TRANSPORTATION

Federal Aviation Administration

14 CFR Part 39

[Docket No. FAA-2018-0049; Product Identifier 2017-CE-031-AD]

RIN 2120-AA64

Airworthiness Directives; Textron Aviation Inc. Airplanes

AGENCY: Federal Aviation Administration (FAA), DOT.

ACTION: Proposed rule; correction.

SUMMARY: The FAA is correcting a Notice of Proposed Rulemaking (NPRM) that published in the Federal Register. That NPRM applies to certain Textron Aviation Inc. Models 172N, 172P, 172Q, 172RG, F172N, F172P, FR172K, R172K, 182E, 182F, 182G, 182H, 182J, 182K, 182L, 182M, 182N, 182P, 182Q, 182R, T182, F182P, F182Q, F182RG, R182, TR182, 206, P206/TP206, U206/TU206, 207/T207, 210-5 (205), 210-5A (205A), 210B, 210C, 210D, 210E, 210F, and T210F airplanes. The Docket No. throughout the document is incorrect. This document corrects that error. In all other respects, the original document remains the same.

DATES: The last date for submitting comments to the NPRM (83 FR 4605, February 1, 2018) remains March 19, 2018.

ADDRESSES: You may examine the AD docket on the internet at http://www.regulations.gov; or in person at Docket Operations between 9 a.m. and 5 p.m., Monday through Friday, except Federal holidays. The AD docket contains this proposed rule, the regulatory evaluation, any comments received, and other information. The address for the Docket Office (phone: 800-647-5527) is Docket Operations, U.S. Department of Transportation, M-30, West Building Ground Floor, Room W12-140, 1200 New Jersey Avenue SE, Washington, DC 20590.

FOR FURTHER INFORMATION CONTACT: Bobbie Kroetch, Aerospace Engineer, Wichita ACO Branch, 1801 Airport Road, Room 100, Wichita, Kansas 67209; telephone: (316) 946-4155; fax: (316) 946-4107; email: bobbie.kroetch@faa.gov or Wichita-COS@faa.gov.

SUPPLEMENTARY INFORMATION: Notice of Proposed Rulemaking (NPRM), Product Identifier 2017-CE-031-AD (83 FR 4605, February 1, 2018), proposes to require repetitively inspecting the lower area of the forward cabin doorposts for cracks and repairing any cracks found by modifying the area with the applicable Cessna service kit.

As published, the Docket No. throughout the document is incorrect.

No other part of the preamble or regulatory information has been changed; therefore, only the changed portion of the NPRM is being published in the Federal Register.

The last date for submitting comments to the NPRM remains March 19, 2018.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to small airplanes, gliders, balloons, airships, domestic business jet transport airplanes, and associated appliances to the Director of the Policy and Innovation Division.

Correction of Non-Regulatory Text

In the Federal Register of February 1, 2018, Product Identifier 2017-CE-031-AD is corrected as follows:

On page 4605, in the first column, on line four in the heading, change “Docket No. FAA-2017-0049” to “Docket No. FAA-2018-0049.”

On page 4605, in the second column, on line four and five under the heading Examining the AD Docket, change “Docket No. FAA-2017-0049” to “Docket No. FAA-2018-0049.”

On page 4605, in the second column, on line five and six under the heading Comments Invited, change “Docket No. FAA-2017-0049” to “Docket No. FAA-2018-0049.”

Correction of Regulatory Text

§ 39.13 [Corrected]

In the Federal Register of February 1, 2018, on page 4606, in the third column, under the heading PART 39 —AIRWORTHINESS DIRECTIVES, paragraph 2., on line four, of Product Identifier 2017-CE-031-AD is corrected to read as follows:

* * * * *

Docket No. FAA-2018-0049

* * * * *

Issued in Kansas City, Missouri, on February 7, 2018.
Melvin J. Johnson,
Deputy Director, Policy & Innovation Division, Aircraft Certification Service.

[FR Doc. 2018-02881 Filed 2-12-18; 8:45 am]

BILLING CODE 4910-13-P